NUCLEAR REGULATORY COMMISSION

[Docket Nos. 50-338 and 50-339]

Virginia Electric and Power Company; Notice of Consideration of Issuance of Amendments to Facility Operating Licenses and Opportunity for a Hearing

The U.S. Nuclear Regulatory Commission (the Commission) is considering issuance of amendments to Facility Operating License Nos. NPF-4 and NPF-7, issued to Virginia Electric and Power Company (the licensee), for operation of the North Anna Power Station, Units 1 and 2, located in Louisa County, Virginia.

The proposed amendments would be a full conversion from the Current Technical Specifications (CTS) to a set of Improved Technical Specifications (ITS) based on NUREG-1431, “Standard Technical Specifications (STS) for Westinghouse Plants,” Revision 1, dated April 1995. The STS have been developed by the Commission's staff through working groups composed of both NRC staff members and industry representatives, and have been endorsed by the staff as part of an industry-wide initiative to standardize and improve the Technical Specifications (TS) for nuclear power plants. As part of the proposed amendments, the licensee has applied the criteria contained in the Commission's “Final Policy Statement on Technical Specification Improvements for Nuclear Power Reactors (Final Policy Statement),” published in the Federal Register on July 22, 1993 (58 FR 39132), to the CTS and, using NUREG-1431 as a basis, proposed ITS for North Anna Power Station, Units 1 and 2. The criteria in the Final Policy Statement were subsequently added to 10 CFR 50.36, “Technical Specifications,” in a rule change that was published in the Federal Register on July 19, 1995 (60 FR 36953). The rule change became effective on August 18, 1995.

The licensee has categorized the proposed changes to the CTS into four general groupings. These groupings are characterized as administrative changes, relocated specifications changes, more restrictive changes, and less restrictive changes.

Administrative changes are those that involve restructuring, renumbering, rewording, interpretation, complex rearranging of requirements, and other changes not affecting technical content or substantially revising an operating requirement. The reformatting, renumbering, and rewording processes reflect the attributes of NUREG-1431 and do not involve technical changes to the existing TS. The proposed changes include: (a) Identifying plant-specific wording for system names, etc.; (b) changing the wording of specification titles in the CTS to conform to the STS; (c) splitting up requirements that are currently grouped, or combining requirements that are currently in separate specifications; (d) deleting specifications whose applicability has expired; and (e) changing the wording that is consistent with the CTS but that more clearly or explicitly states existing requirements. Such changes are administrative in nature and do not impact initiators of analyzed events or assumed mitigation of accident or transient events.

Relocated specifications changes are those involving relocation of requirements and surveillances for structures, systems, components, or variables that do not meet the criteria for inclusion in the TS. Relocated changes are those CTS requirements that do not satisfy or fall within any of the four criteria specified in the Commission's policy statement and may be relocated to appropriate licensee-controlled documents. The licensee's application of the screening criteria to North Anna Power Station, Units 1 and 2, is described in the December 11, 2000, application. The affected structures, systems, components, or variables are not assumed to be initiators of analyzed events and are not assumed to mitigate accident or transient events. The requirements and surveillances for these affected structures, systems, components, or variables will be relocated from the TS to administratively controlled documents such as the quality assurance program, the Updated Final Safety Analysis Report (UFSAR), the ITS Bases, the Technical Requirements Manual that is incorporated by reference in the UFSAR, the Core Operating Limits Report, the Offsite Dose Calculation Manual, the Inservice Testing Program, the Inservice Inspection Program, or other licensee-controlled documents. Changes made to these documents will be made pursuant to 10 CFR 50.59 or other appropriate control mechanisms, and may be made without prior NRC review and approval. In addition, the affected structures, systems, components, or variables are addressed in existing surveillance procedures that are also subject to 10 CFR 50.59. These proposed changes will not impose or eliminate any requirements.

More restrictive changes are those involving more stringent requirements compared to the CTS for operation of the plant. These more stringent requirements do not result in operation that will alter assumptions relative to the mitigation of an accident or transient event. The more restrictive requirements will not alter the operation of process variables, structures, systems, and components described in the safety analyses.

Less restrictive changes are those where CTS requirements are relaxed, relocated, eliminated, or where new plant operational flexibility has been provided. When requirements have been shown to provide little or no safety benefit, their removal from the TS may be appropriate. In most cases, relaxations previously granted to individual plants on a plant-specific basis were the result of (a) generic NRC actions, (b) new staff positions that have evolved from the technological advancements and operating experience, or (c) resolution of the Owners Groups' comments on the ITS. Generic relaxations contained in NUREG-1431 were reviewed by the staff and found to be acceptable because they are consistent with current licensing practices and NRC regulations. The licensee's design will be reviewed to determine if the specific design basis and licensing basis are consistent with the technical basis for the model requirements in NUREG-1431, thus providing a basis for these revised TS, or if relaxation of the requirements in the CTS is warranted based on the justification provided by the licensee.

These administrative, relocated, more restrictive, and less restrictive changes to the requirements of the CTS do not result in operations that will alter assumptions relative to mitigation of an analyzed accident or transient event.

In addition to the proposed changes solely involving the conversion, there are also (1) changes proposed that are different from the requirements in both the CTS and the STS, and (2) changes that are in addition to those changes that are needed to meet the overall purpose of the conversion. These changes are referred to as beyond-scope changes and would:

1. Change the Allowable Value for engineered safety feature actuation system (ESFAS) interlock P-12 from ≤ 545 degrees F and ≥ 541 degrees F to ≤ 545 degrees F and > 542 degrees F. (ITS 3.3.2)

2. Remove the trip setpoints and change the Allowable Values for the ESFAS Instrumentation. (ITS 3.3.2)

3. Add a note to Action C to indicate that the accumulator isolation is only applicable when accumulator pressure is greater than the power-operated relief valve (PORV) setting, add REQUIRED ACTION C.2 to state “Remove power from affected accumulator isolation valve operators,” and add a note in the Limiting Condition for Operation (LCO) section that states “Accumulator isolation with power removed from the isolation valve operators is only required when accumulator pressure is greater than the PORV lift setting.” (ITS 3.4.12)

4. Revise required Actions A.2, B.2, C.2, and D.2 to allow verification by administrative controls to ensure the Main Feedwater Isolation Valves, Main Feedwater Regulating Valves, Main Feedwater Pump Discharge Valves, and Main Feedwater Regulating Bypass Valves are closed. (ITS 3.7.3)

5. Remove Component Cooling Water System from ITS LCO 3.7.7. (ITS 3.7.7)

6. Remove the North Anna Reservoir from the Ultimate Heat Sink requirements of ITS. The CTS defines the Ultimate Heat Sink as both the Service Water Reservoir and North Anna Reservoir. ( ITS 3.7.9)

7. Revise the surveillance requirement (SR) frequency from “18 months” to “18 months on a staggered test basis” for the Main Control Room (MCR)/Emergency Switchgear Room (ESGR) Air Conditioning System. (ITS 3.7.11.1)

8. Add a note to allow the emergency core cooling system (ECCS) pump room boundary openings, which were not open by design, to be opened intermittently under administrative control. (ITS 3.7.12)

9. Add an SR to actuate each ECCS pump room exhaust air cleanup system train by aligning the safeguards area exhaust flow and auxiliary building central exhaust flow through the auxiliary building high-efficiency particulate air filter and charcoal adsorber assembly. Change current SRs to verify each safeguards area exhaust flow is diverted and each auxiliary building filter bank is actuated on an actual or simulated actuation signal. (ITS 3.7.12.2 and 3.7.12.4)

10. Add ACTION B to allow two or more required MCR/ESGR bottled air system trains to be inoperable for up to 24 hours. (ITS 3.7.13)

11. Delete testing requirements for the fuel building filtration system. (ITS 3.7.15)

12. Delete the requirements to obtain NRC approval prior to plant operations whenever a steam generator is found to be in Category C-3. (ITS Table 5.5.8-2)

13. Implement plant-specific equations for the overtemperature and overpower delta T equations presently used for the CTS. (ITS 3.3.1)

14. Change SR 3.3.1.2 and the CTS by only requiring an adjustment of the power range channel if the indicated power of the nuclear instrumentation channel is more than 2% lower than the calculated power of the calorimetric. (ITS 3.3.1)

15. Revise the allowable values of the setpoint for the P-7 low power reactor trips block interlock to a value that differs from the CTS. (ITS 3.3.1, Table 3.3.1-1)

16. Revise the ITS to require entry into ACTION if less than 100% of MCR/ESGR air conditioning system is available. (ITS 3.7.11)

17. Add a function to Table 3.3.2-1 for automatic swichover to containment sump to occur when the refueling water storage tank level is at low—low level. (ITS 3.3.2)

18. Revise the CTS values for reactor trip system instrumentation interlocks by not requiring these specific interlocks to state the reset values for the allowable values. (ITS 3.3.1)

19. Review Technical Report EE-0116, Revision 1 “Allowable Values for Surry and North Anna Improved Technical Specifications (ITS) Tables 3.3.1-1 and 3.3.2-1.”

Before issuance of the license amendments, the Commission will have made findings required by the Atomic Energy Act of 1954, as amended (the Act) and the Commission's regulations.

By March 28, 2002, the licensee may file a request for a hearing with respect to issuance of the amendments to the subject facility operating licenses, and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714, which is available at the Commission's Public Document Room (PDR), located at One White Flint North, 11555 Rockville Pike (first floor), Rockville, Maryland, or electronically on the Internet at the NRC Web site http://www.nrc.gov/reading-rm/doc-collections/cfr. If there are problems in accessing the document, contact the PDR Reference staff at 1-800-397-4209, 301-415-4737, or by e-mail to pdr@nrc.gov. If a request for a hearing or petition for leave to intervene is filed by the above date, the Commission or an Atomic Safety and Licensing Board, designated by the Commission or by the Chairman of the Atomic Safety and Licensing Board Panel will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition must specifically explain the reasons why intervention should be permitted with particular reference to the following factors: (1) The nature of the petitioner's right under the Act to be made a party to the proceeding; (2) the nature and extent of the petitioner's property, financial, or other interest in the proceeding; and (3) the possible effect of any order that may be entered in the proceeding on the petitioner's interest. The petition must also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above. Not later than 15 days prior to the first prehearing conference scheduled in the proceeding, a petitioner shall file a supplement to the petition to intervene that must include a list of the contentions that the petitioner seeks to have litigated in the hearing. Each contention must consist of a specific statement of the issue of law or fact to be raised or controverted. In addition, the petitioner shall provide a brief explanation of the bases of each contention and a concise statement of the alleged facts or expert opinion that support the contention and on which the petitioner intends to rely in proving the contention at the hearing. The petitioner must also provide references to those specific sources and documents of which the petitioner is aware and on which the petitioner intends to rely to establish those facts or expert opinion. The petitioner must provide sufficient information to show that a genuine dispute exists with the applicant on a material issue of law or fact. Contentions shall be limited to matters within the scope of the amendment under consideration. The contention must be one that, if proven, would entitle the petitioner to relief. A petitioner who fails to file such a supplement that satisfies these requirements with respect to at least one contention will not be permitted to participate as a party.

Those permitted to intervene become parties to the proceeding, subject to any limitations in the order granting leave to intervene, and have the opportunity to participate fully in the conduct of the hearing, including the opportunity to present evidence and cross-examine witnesses.

A request for a hearing and petition for leave to intervene must be filed with the Secretary of the Commission, U.S. Nuclear Regulatory Commission, Washington, DC 20555-0001, Attention: Rulemakings and Adjudications Staff, or may be delivered to the Commission's PDR, located at One White Flint North, 11555 Rockville Pike (first floor), Rockville, Maryland, by the above date. A copy of the request for a hearing and the petition should also be sent to the Office of the General Counsel, U.S. Nuclear Regulatory Commission, Washington, DC 20555-0001, and to Ms. Lillian M. Cuoco, Senior Nuclear Counsel, Dominion Nuclear Connecticut, Inc., Millstone Power Station, Building 475, 5th Floor, Rope Ferry Road, Route 156, Waterford, CT 06385, attorney for the licensee.

Nontimely filings of petitions for leave to intervene, amended petitions, supplemental petitions and/or requests for a hearing will not be entertained absent a determination by the Commission, the presiding officer, or the Atomic Safety and Licensing Board that the petition and/or request should be granted based upon a balancing of the factors specified in 10 CFR 2.714(a)(1)(i)-(v) and 2.714(d).

If a request for a hearing is received, the Commission's staff may issue the amendments after it completes its technical review and prior to the completion of any required hearing if it publishes a further notice for public comment of its proposed finding of no significant hazards consideration in accordance with 10 CFR 50.91 and 50.92.

For further details with respect to this action, see the application for amendments dated December 11, 2000, as supplemented by letters dated May 30, June 18, July 20, August 13, August 27, September 27, October 10, October 17, November 8, November 19, November 29, December 3, December 7, December 12, and December 13, 2001, and January 2, January 25, and January 31, 2002, which are available for public inspection at the Commission's PDR, located at One White Flint North, 11555 Rockville Pike (first floor), Rockville, Maryland. Publicly available records will be accessible electronically from the Agencywide Documents Access and Management Systems (ADAMS) Public Electronic Reading Room on the Internet at the NRC Web site, http://www.nrc.gov/reading-rm/adams.html. Persons who do not have access to ADAMS or who encounter problems in accessing the documents located in ADAMS, should contact the NRC PDR Reference staff at 1-800-397-4209, 301-415-4737 or by e-mail to pdr@nrc.gov.

Dated at Rockville, Maryland, this 20th day of February 2002.
For the Nuclear Regulatory Commission.
Stephen R. Monarque,
Project Manager, Section I, Project Directorate II, Division of Licensing Project Management, Office of Nuclear Reactor Regulation.

[FR Doc. 02-4520 Filed 2-25-02; 8:45 am]

BILLING CODE 7590-01-P